DEPARTMENT OF AGRICULTURE

Animal and Plant Health Inspection Service

7 CFR Part 301

[Docket No. 01-079-1]

Citrus Canker; Quarantined Areas

AGENCY: Animal and Plant Health Inspection Service, USDA.

ACTION: Proposed rule.

SUMMARY: We are proposing to amend the citrus canker regulations by removing a portion of the quarantined area in Manatee County, FL, from the list of quarantined areas. The regulations require that an area be free from citrus canker for a period of at least 2 years before it may be removed from the list of quarantined areas. Surveys have shown that a portion of the quarantined area in Manatee County, FL, has been free of citrus canker since February 1999. This proposed action would remove restrictions on the interstate movement of regulated articles from that portion of Manatee County, FL.

DATES: We invite you to comment on this docket. We will consider all comments that we receive by December 27, 2001.

ADDRESSES: Please send four copies of your comment (an original and three copies) to: Docket No. 01-079-1, Regulatory Analysis and Development, PPD, APHIS, Suite 3C03, 4700 River Road Unit 118, Riverdale, MD 20737-1238. Please state that your comment refers to Docket No. 01-079-1.

You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Mr. Stephen Poe, Operations Officer, PPQ, APHIS, 4700 River Road Unit 134, Riverdale, MD 20737; (301) 734-8899.

SUPPLEMENTARY INFORMATION:

Background

Citrus canker is a plant disease that affects plants and plant parts, including fresh fruit, of citrus and citrus relatives (Family Rutaceae). Citrus canker can cause defoliation and other serious damage to the leaves and twigs of susceptible plants. It can also cause lesions on the fruit of infected plants, which render the fruit unmarketable, and cause infected fruit to drop from the trees before reaching maturity. The aggressive A (Asiatic) strain of citrus canker can infect susceptible plants rapidly and lead to extensive economic losses in commercial citrus-producing areas.

The regulations to prevent the interstate spread of citrus canker are contained in 7 CFR 301.75-1 through 301.75-16 (referred to below as the regulations). The regulations restrict the interstate movement of regulated articles from and through areas quarantined because of citrus canker and provide for the designation of survey areas around quarantined areas. Survey areas undergo close monitoring by Animal and Plant Health Inspection Service (APHIS) and State inspectors for citrus canker and serve as buffer zones against the disease.

Under § 301.75-4(c) of the regulations, any State or portion of a State where an infestation is detected will be designated as a quarantined area and will retain that designation until the area has been free from citrus canker for 2 years.

A 15-square-mile area in the northern part of the quarantined area in Manatee County, FL, has been free of citrus canker since February 1999, and has thus met the requirement for declaration of eradication—that an area be free from citrus canker for a period of at least 2 years. In this case, regular and complete surveys have been conducted on an approximately monthly basis since the infestation was first detected, including surveys of all citrus trees located in both commercial groves and at residential properties. In addition, any wild citrus present in the area has also been surveyed.

Although not required as a condition of declaring eradication in an area, in this case all abandoned citrus orchards in the area, estimated at over 1,000 acres, have also been removed. Abandoned citrus groves present a challenge in conducting surveys, and thus the removal of these groves increases our confidence that citrus canker is no longer present in this area. APHIS and the State of Florida will continue to survey all commercial and private citrus groves on a regular basis at least until citrus canker is fully eradicated statewide.

Therefore, we are proposing to amend the citrus canker regulations by removing a portion of the quarantined area in Manatee County, FL, from the list of quarantined areas. The portion of Manatee County we are proposing to remove from the list of quarantined areas covers approximately 15 square miles in the northern portion of the current quarantined area in Manatee County. The portion of the current quarantined area that would remain on the list of quarantined areas is described in the rule portion of this document. This proposed action would remove restrictions on the interstate movement of regulated articles from the portion of Manatee County, FL, that would be removed from the list of quarantined areas.

Executive Order 12866 and Regulatory Flexibility Act

This proposed rule has been reviewed under Executive Order 12866. For this action, the Office of Management and Budget has waived its review process required by Executive Order 12866.

We are proposing to amend the citrus canker regulations by removing a portion of the quarantined area in Manatee County, FL, from the list of quarantined areas. The regulations require that an area be free from citrus canker for a period of at least 2 years before it is removed from the list of quarantined areas. Surveys have shown that a portion of the quarantined area in Manatee County, FL, has been free of citrus canker since February 1999. This proposed action would remove restrictions on the interstate movement of regulated articles from that portion of Manatee County, FL.

The area we are proposing to remove from quarantine represents only a small portion of the total production in Manatee County. The table below shows statistics for Manatee County after trees were removed to limit the spread of citrus canker.

| Boxes of citrus produced in 1999-2000 season | Total acres January 2000 | Total number of trees January 2000
All Round Oranges | 8,365,000 | 21,236 | 2,631,200
All Grapefruit | 422,000 | 1,197 | 111,900
Speciality Fruit | 279,000 | 821 | 98,300
All Citrus | 9,066,000 | 23,254 | 2,841,400

While producers in the area that would be removed from the list of quarantined areas would benefit from removal of movement restrictions, it is unlikely that the benefit would be big enough to measure statistically. This proposed action would not impose any costs on producers or on government entities.

Most of the citrus producers in and around the quarantined area in Manatee County, FL, would qualify as small entities under Small Business Administration (SBA) guidelines. The Regulatory Flexibility Act requires that the Agency specifically consider the economic impact associated with rule changes on small entities. The SBA defines a firm engaged in agriculture as “small” if it has less than $750,000 in annual receipts.

Citrus producers in the area that would be removed from the list of quarantined areas would have greater choice of where to market their fruit. This would benefit producers by providing them with more alternatives. It is unlikely, however, that producer income or expenses would be affected in a measurable way.

It is difficult to quantify the benefits of removing an area from quarantine. While producers would have greater choice of where to market their citrus crops, most of the trees in the quarantined area have been destroyed. It is unlikely that a reduction in the quarantined area would have any measurable effect on producers or consumers.

Under these circumstances, the Administrator of the Animal and Plant Health Inspection Service has determined that this action would not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This proposed rule has been reviewed under Executive Order 12988, Civil Justice Reform. If this proposed rule is adopted: (1) State and local laws and regulations will not be preempted; (2) no retroactive effect will be given to this rule; and (3) administrative proceedings will not be required before parties may file suit in court challenging this rule.

Paperwork Reduction Act

This proposed rule contains no new information collection or recordkeeping requirements under the Paperwork Reduction Act of 1995 (44 U.S.C. 3501 et seq.).

List of Subjects in 7 CFR Part 301

Agricultural commodities, Plant diseases and pests, Quarantine, Reporting and recordkeeping requirements, Transportation.

Accordingly, we are proposing to amend 7 CFR part 301 as follows:

PART 301—DOMESTIC QUARANTINE NOTICES

1. The authority citation for part 301 would continue to read as follows:

Authority: 7 U.S.C. 166, 7711, 7712, 7714, 7731, 7735, 7751, 7752, 7753, and 7754; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

2. In § 301.75-4, paragraph (a), in the entry for Manatee County, the second paragraph would be revised to read as follows:

§ 301.75-4 Quarantined areas.

(a) * * *

Florida

* * * * *

Manatee County. * * *

That portion of the county bounded by a line drawn as follows: Beginning at the northwest corner of sec. 24, T. 33 S., R. 17 E.; then east along the northern boundary of sec. 24, T. 33. S., R. 17 E. (Bishop Harbor Road) until it becomes SR 683 (Moccasin Wallow Road); then east on SR 683 to the northeast boundary of sec. 22, T. 33 S., R. 18 E., then south along the eastern boundary of sec. 22, T. 33 S., R. 18 E. to 69th Street East; then east on 69th Street East to Erie Road; then south on Erie Road to U.S. Highway 301; then south on U.S. Highway 301 to Interstate 75; then south on Interstate 75 to the southern boundary of sec. 24, T. 35 S., R. 18 E.; then west along the southern boundaries of secs. 24, 23, and 22 to where the southern boundary of sec. 22 meets Whitfield Avenue; then west on Whitfield Avenue to U.S. Highway 301; then north on U.S. Highway 301 to SR 70; then west on SR 70 to U.S. Highway 41; then north on U.S. Highway 41 to where it becomes 14th Street West; then north on 14th Street West to 1st Avenue West; then east on 1st Avenue West to 9th Street West; then north on 9th Street West to the north bank of the Manatee River; then west along the north bank of the Manatee River to Terra Ceia Bay; then north along the western boundaries of secs. 25 and 24 to the point of the beginning.

* * * * *

Done in Washington, DC, this 15th day of November 2001.
W. Ron DeHaven,
Acting Administrator, Animal and Plant Health Inspection Service.

[FR Doc. 01-29473 Filed 11-26-01; 8:45 am]

BILLING CODE 3410-34-P